NUCLEAR REGULATORY COMMISSION

[NRC-2019-0196]

Biweekly Notice; Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person. This biweekly notice includes all notices of amendments issued, or proposed to be issued, from September 10, 2019, to September 23, 2019. The last biweekly notice was published on September 24, 2019.

DATES: Comments must be filed by November 7, 2019. A request for a hearing must be filed by December 9, 2019.

ADDRESSES: You may submit comments by any of the following methods:

• Federal Rulemaking Website: Go to https://www.regulations.gov and search for Docket ID NRC-2019-0196. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Janet Burkhardt, Office of Nuclear Regulation, U.S. Nuclear Regulatory Commission, Washington, DC 20555-0001; telephone: 301-415-1384, email: Janet.Burkhardt@nrc.gov.

SUPPLEMENTARY INFORMATION:

I. Obtaining Information and Submitting Comments

A. Obtaining Information

Please refer to Docket ID NRC-2019-0196, facility name, unit number(s), plant docket number, application date, and subject when contacting the NRC about the availability of information for this action. You may obtain publicly-available information related to this action by any of the following methods:

• Federal Rulemaking Website: Go to https://www.regulations.gov and search for Docket ID NRC-2019-0196.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0196, facility name, unit number(s), plant docket number, application date, and subject in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly-available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Dominion Energy Nuclear Connecticut, Inc., Docket No. 50-336, Millstone Power Station, Unit No. 2 (Millstone 2), New London County, Connecticut

Date of amendment request: July 30, 2019. A publicly-available version is in ADAMS under Accession No. ML19218A177.

Description of amendment request: The amendment would reduce the Millstone 2 technical specification (TS) reactor coolant system (RCS) and secondary side-specific activity by 50 percent. The proposed changes are based on evaluations that were conducted to assess the radiological consequences following postulated design-basis main steam line break (MSLB) and steam generator tube rupture (SGTR) accidents to address analysis deficiencies documented in the Millstone 2 corrective action program. A reduction in the TS RCS and secondary side-specific activity is necessary to meet the control room dose regulatory limit and would also provide inherent source term margin.

Basis for proposed no significant hazards consideration determination: As required by 10 CFR 50.91(a), the licensee has provided its analysis of the issue of no significant hazards consideration, which is presented below:

1. Does the proposed amendment involve a significant increase in the probability or consequences of an accident previously evaluated?

Response: No.

RCS and secondary side specific activity are not initiators for any accident previously evaluated. Reanalyzing the MSLB and SGTR events does not require changes to any plant structures, systems, or components (SSCs) and therefore does not affect accident initiators. As a result, the proposed changes do not significantly increase the probability of an accident. The proposed TS change will limit primary coolant activity to concentrations consistent with the accident analyses. The proposed MSLB and SGTR design basis accident analyses demonstrate that the Exclusion Area Boundary, Low Population Zone, and Control Room doses are within the limits of 10 CFR 50.67, SRP [Standard Review Plan]-15.0.1, and RG [Regulatory Guide] 1.183. Therefore, the proposed changes do not involve a significant increase in the probability or consequences of any accident previously evaluated.

2. Does the proposed amendment create the possibility of a new or different kind of accident from any accident previously evaluated?

Response: No.

The proposed TS change in specific activity limits and the reanalyzed MSLB and SGTR events do not alter any physical part of the plant, (i.e., no new or different type of equipment will be installed), nor do they affect any plant operating parameter or create new accident precursors. Therefore, the proposed changes do not create the possibility of a new or different kind of accident from any accident previously evaluated.

3. Does the proposed amendment involve a significant reduction in a margin of safety?

Response: No.

The proposed TS change in specific activity limits is consistent with the assumptions in the safety analyses and will ensure the monitored values protect the initial assumptions in the safety analyses. The proposed changes for radiological events related to the computer code used to calculate radiological dose consequences have been analyzed and result in acceptable consequences, meeting the criteria as specified in 10 CFR 50.67, SRP-15.0.1, and RG 1.183. The proposed changes will not result in plant operation in a configuration outside the analyses or design bases and do not adversely affect systems that are required to respond for safe shutdown of the plant and to maintain the plant in a safe operating condition. Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: James G. Danna.

Dominion Energy Nuclear Connecticut, Inc. (DENC), Docket No. 50-423, Millstone Power Station, Unit No. 3 (Millstone 3), New London County, Connecticut

Date of amendment request: July 30, 2019. A publicly-available version is in ADAMS under Accession No. ML19217A208.

Description of amendment request: The amendment would revise the Millstone 3 Technical Specification (TS) 6.8.4.f, “Containment Leakage Rate Testing Program,” by replacing the reference to Regulatory Guide (RG) 1.163 with a reference to Nuclear Energy Institute (NEI) Topical Report NEI 94-01, Revision 3-A, and the limitations and conditions specified in NEI 94-01, Revision 2-A, as the implementing documents used to develop the Millstone 3 performance-based leakage testing program in accordance with option B of 10 CFR part 50, appendix J, “Primary Reactor Containment Leakage Testing for Water-Cooled Power Reactors.” The amendment would allow Dominion Energy Nuclear Connecticut, Inc. (DENC) to extend the primary containment integrated leak rate test (ILRT) interval for Millstone 3 to 15 years and Type C local leak rate test interval to 75 months, and incorporate the regulatory positions stated in RG 1.163.

Basis for proposed no significant hazards consideration determination: As required by 10 CFR 50.91(a), the licensee has provided its analysis of the issue of no significant hazards consideration, which is presented below:

1. Does the proposed change involve a significant increase in the probability or consequences of an accident previously evaluated?

Response: No.

The proposed amendment involves changes to the MPS3 [Millstone 3] Containment Leakage Rate Testing Program. The proposed amendment does not involve a physical change to the plant or a change in the manner in which the plant is operated or controlled. The primary containment function is to provide an essentially leak tight barrier against the uncontrolled release of radioactivity to the environment for postulated accidents. As such, the containment and the testing requirements to periodically demonstrate the integrity of the containment exist to ensure the plant's ability to mitigate the consequences of an accident, and do not involve any accident precursors or initiators.

Therefore, the probability of occurrence of an accident previously evaluated is not significantly increased by the proposed amendment.

The proposed amendment adopts the NRC-accepted guidelines of NEI 94-01, Revision 3-A, and the limitations and conditions specified in NEI 94-01, Rev. 2-A, for development of the MPS3 performance-based leakage testing program. Implementation of these guidelines continues to provide adequate assurance that during design basis accidents, the primary containment and its components will limit leakage rates to less than the values assumed in the plant safety analyses. The potential consequences of extending the ILRT interval to 15 years have been evaluated by analyzing the resulting changes in risk. The increase in risk in terms of person-rem per year within 50 miles resulting from design basis accidents was estimated to be acceptably small and determined to be within the guidelines published in RG 1.17. Additionally, the proposed change maintains defense-in-depth by preserving a reasonable balance among prevention of core damage, prevention of containment failure, and consequence mitigation. DENC has determined that the increase in Conditional Containment Failure Probability due to the proposed change is very small.

Therefore, it is concluded that the proposed amendment does not significantly increase the consequences of an accident previously evaluated.

2. Does the proposed change create the possibility of a new or different kind of accident from any accident previously evaluated?

Response: No.

The proposed amendment adopts the NRC-accepted guidelines of NEI 94-01, Revision 3-A, and the limitations and conditions specified in NEI 94-01, Rev. 2-A, for development of the MPS3 performance-based leakage testing program, and establishes a 15-year interval for Type A testing and an interval of 75 months for Type C testing. The containment and the testing requirements to periodically demonstrate the integrity of the containment exist to ensure the plant's ability to mitigate the consequences of an accident; and do not involve any accident precursors or initiators. The proposed change does not involve a physical change to the plant (i.e., no new or different type of equipment will be installed) or a change to the manner in which the plant is operated or controlled.

Therefore, the proposed change does not create the possibility of a new or different kind of accident from any previously evaluated.

3. Does the proposed change involve a significant reduction in a margin of safety?

Response: No.

The proposed amendment adopts the NRC-accepted guidelines of NEI 94-01, Revision 3-A, and the limitations and conditions specified in NEI 94-01, Rev. 2-A, for the development of the MPS3 performance-based leakage testing program, and establishes a 15-year interval for Type A testing and an interval of 75 months for Type C testing. This amendment does not alter the manner in which safety limits, limiting safety system setpoints, or limiting conditions for operation are determined. The specific requirements and conditions of the Containment Leakage Rate Testing Program, as defined in the TS, ensure that the degree of primary containment structural integrity and leak-tightness that is considered in the plant's safety analysis is maintained. The overall containment leakage rate limit specified by the TS is maintained, and the Type A, Type B, and Type C containment leakage tests will be performed at the frequencies established in accordance with the NRC-accepted guidelines of NEI 94-01, Revision 3-A, and the limitations and conditions specified in NEI 94-01, Rev. 2-A.

Containment inspections performed in accordance with other plant programs serve to provide a high degree of assurance that the containment will not degrade in a manner that is not detectable by an ILRT. A risk assessment using the current MPS3 PRA [probabilistic risk assessment] model concluded that extending the ILRT test interval from 10 years to 15 years results in a small change to the MPS3 risk profile.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resource Services, Inc., 120 Tredegar Street, RS-2, Richmond, VA 23219.

NRC Branch Chief: James G. Danna.

Exelon Generation Company, LLC, Docket Nos. STN 50-456 and STN 50-457, Braidwood Station, Units 1 and 2, Will County, Illinois

Exelon Generation Company, LLC, Docket Nos. STN 50-454 and STN 50-455, Byron Station, Unit Nos. 1 and 2, Ogle County, Illinois

Exelon Generation Company, LLC, Docket No. 50-461, Clinton Power Station, Unit No. 1, DeWitt County, Illinois

Exelon Generation Company, LLC, Docket Nos. 50-010, 50-237, and 50-249, Dresden Nuclear Power Station, Units 1, 2, and 3, Grundy County, Illinois

Exelon Generation Company, LLC and Exelon FitzPatrick, LLC, Docket No. 50-333, James A. FitzPatrick Nuclear Power Plant, Oswego County, New York

Exelon Generation Company, LLC, Docket Nos. 50-373 and 50-374, LaSalle County Station, Units 1 and 2, LaSalle County, Illinois

Exelon Generation Company, LLC, Docket Nos. 50-352 and 50-353, Limerick Generating Station, Units 1 and 2, Montgomery County, Pennsylvania

Exelon Generation Company, LLC, Docket Nos. 50-220 and 50-410, Nine Mile Point Nuclear Station, Units 1 and 2, Oswego County, New York

Exelon Generation Company, LLC, and PSEG Nuclear LLC, Docket Nos. 50-171, 50-277 and 50-278, Peach Bottom Atomic Power Station, Units 1, 2, and 3, York and Lancaster Counties, Pennsylvania

Exelon Generation Company, LLC, Docket Nos. 50-254 and 50-265, Quad Cities Nuclear Power Station, Units 1 and 2, Rock Island County, Illinois

Exelon Generation Company, LLC, Docket No. 50-244, R.E. Ginna Nuclear Power Plant, Wayne County, New York

Date of amendment request: August 28, 2019. A publicly-available version is in ADAMS under Accession No. ML19240B609.

Description of amendment request: The amendments would delete certain facility operating license (FOL) conditions that specify requirements for decommissioning trust agreements for these facilities. The amendments would also delete some obsolete license conditions associated with completed license transfers for these facilities. The decommissioning trust fund requirements in 10 CFR 50.75(h) would become applicable to these facilities if the amendments are approved.

Basis for proposed no significant hazards consideration determination: As required by 10 CFR 50.91(a), the licensee has provided its analysis of the issue of no significant hazards consideration, which is presented below:

1. Does the proposed amendment involve a significant increase in the probability or consequences of an accident previously evaluated?

Response: No.

The requested changes delete license conditions pertaining to Decommissioning Trust Agreements currently in the FOL. The requested changes are consistent with the types of license amendments permitted in 10 CFR 50.75(h)(4).

The regulations of 10 CFR 50.75(h)(4) state: “Unless otherwise determined by the Commission with regard to a specific application, the Commission has determined that any amendment to the license of a utilization facility that does no more than delete specific license conditions relating to the terms and conditions of decommissioning trust agreements involves “no significant hazard considerations.”

This request involves changes that are administrative in nature. No actual plant equipment or accident analyses will be affected by the proposed changes.

Therefore, the proposed change does not involve a significant increase in the probability or consequences of an accident previously evaluated.

2. Does the proposed amendment create the possibility of a new or different kind of accident from any accident previously evaluated?

Response: No.

This request involves administrative changes to the license that will be consistent with the 10 CFR 50.75(h). No actual plant equipment or accident analyses will be affected by the proposed change and no failure modes not bounded by previously evaluated accidents will be created.

Therefore, the proposed change does not create the possibility of a new or different kind of accident from any previously evaluated.

3. Does the proposed amendment involve a significant reduction in a margin of safety?

Response: No.

This request involves administrative changes to the license that will be consistent with the 10 CFR 50.75(h). No actual plant equipment or accident analyses will be affected by the proposed change. Additionally, the proposed changes will not relax any criteria used to establish safety limits, will not relax any safety systems settings, or will not relax the bases for any limiting conditions of operation.

Therefore, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: Tamra Domeyer, Associate General Counsel, Exelon Generation Company, LLC, 4300 Winfield Road, Warrenville, IL 60555.

NRC Acting Branch Chief: Lisa M. Regner.

Indiana Michigan Power Company, Docket Nos. 50-315 and 50-316, Donald C. Cook Nuclear Plant, Unit Nos. 1 and 2, Berrien County, Michigan

Date of amendment request: August 27, 2019. A publicly-available version is in ADAMS under Accession No. ML19241A242.

Description of amendment request: The amendment would revise the reactor coolant pump (RCP) motor flywheel examination frequency from the currently approved 10-year inspection interval to an interval not to exceed 20 years. The changes are consistent with Technical Specifications Task Force (TSTF) Standard Technical Specification Change Traveler, TSTF-421, “Revision to RCP Flywheel Inspection Program (WCAP-15666).”

Basis for proposed no significant hazards consideration determination: As required by 10 CFR 50.91(a), the licensee has provided (via incorporation by reference) its analysis of the issue of no significant hazards consideration, which is presented below:

Criterion 1—The Proposed Change Does Not Involve a Significant Increase in the Probability of Consequences of an Accident Previously Evaluated

The proposed change to the RCP flywheel examination frequency does not change the response of the plant to any accidents. The RCP will remain highly reliable and the proposed change will not result in a significant increase in the risk of plant operation. Given the extremely low failure probabilities for the RCP motor flywheel during normal and accident conditions, the extremely low probability of a loss-of-coolant accident with loss of offsite power, and assuming a conditional core damage probability of 1.0 (complete failure of safety systems), the core damage frequency and change in risk would still not exceed the NRC's acceptance guidelines contained in RG [Regulatory Guide] 1.174 (<1.0E-6 per year). Moreover, considering the uncertainties involved in this evaluation, the risk associated with the postulated failure of an RCP motor flywheel is significantly low. Even if all four RCP motor flywheels are considered in the bounding plant configuration case, the risk is still acceptably low.

The proposed change does not adversely affect accident initiators or precursors, nor alter the design assumptions, conditions, or configuration of the facility, or the manner in which the plant is operated and maintained; alter or prevent the ability of structures, systems, components (SSCs) from performing their intended function to mitigate the consequences of an initiating event within the assumed acceptance limits; or affect the source term, containment isolation, or radiological release assumptions used in evaluating the radiological consequences of an accident previously evaluated. Further, the proposed change does not increase the type or amount of radioactive effluent that may be released offsite, nor significantly increase individual or cumulative occupational/public radiation exposure. The proposed change is consistent with the safety analysis assumptions and resultant consequences. Therefore, the proposed change does not involve a significant increase in the probability or consequences of an accident previously evaluated.

Criterion 2—The Proposed Change Does Not Create the Possibility of a New or Different Kind of Accident From Any Accident Previously Evaluated

The proposed change in flywheel inspection frequency does not involve any change in the design or operation of the RCP. Nor does the change to examination frequency affect any existing accident scenarios, or create any new or different accident scenarios. Further, the change does not involve a physical alteration of the plant (i.e., no new or different type of equipment will be installed) or alter the methods governing normal plant operation. In addition, the change does not impose any new or different requirements or eliminate any existing requirements, and does not alter any assumptions made in the safety analysis. The proposed change is consistent with the safety analysis assumptions and current plant operating practice. Therefore, the proposed change does not create the possibility of a new or different kind of accident from any accident previously evaluated.

Criterion 3—The Proposed Change Does Not Involve a Significant Reduction in a Margin of Safety

The proposed change does not alter the manner in which safety limits, limiting safety system settings, or limiting conditions for operation are determined. The safety analysis acceptance criteria are not impacted by this change. The proposed change will not result in plant operation in a configuration outside of the design basis. The calculated impact on risk is insignificant and meets the acceptance criteria contained in RG 1.174. There are no significant mechanisms for inservice degradation of the RCP flywheel. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Robert B. Haemer, Senior Nuclear Counsel, One Cook Place, Bridgman, MI 49106.

NRC Acting Branch Chief: Lisa M. Regner.

Southern Nuclear Operating Company, Docket Nos. 52-025 and 52-026, Vogtle Electric Generating Plant, Units 3 and 4, Burke County, Georgia

Date of amendment request: August 9, 2019. A publicly-available version is in ADAMS under Accession No. ML19221B669.

Description of amendment request: The amendment proposes to depart from Updated Final Safety Analysis Report Tier 2 information (which includes the plant-specific Design Control Document (DCD) Tier 2 information) and involves related changes to plant-specific Tier 1 information, with corresponding changes to the associated Combined License (COL) Appendix C information. Pursuant to the provisions of 10 CFR 52.63(b)(1), an exemption from elements of the design as certified in the 10 CFR part 52, appendix D, Design Certification Rule is also requested for the plant-specific DCD Tier 1 material departures.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes would revise the COL and licensing basis documents to add Onsite Standby Diesel Generator loads identified as required for orderly plant shutdown, defense-in-depth, and prevention of automatic passive safety-related system actuation following anticipated operational occurrences, to prevent duplication of testing by deleting [Inspections, Tests, Analyses and Acceptance Criteria] ITAAC 2.6.01.04c for the function of Onsite Standby Diesel Generator breaker closing and combining with ITAAC 2.6.04.02a, and to provide editorial updates.

The proposed non-technical change to COL Appendix C consolidates ITAAC to improve efficiency of the ITAAC completion and closure process. No structure, system, or component (SSC) design or function is affected. No design or safety analysis is affected. The proposed changes do not affect any accident initiating event or component failure, thus the probabilities of the accidents previously evaluated are not affected. No function used to mitigate a radioactive material release and no radioactive material release source term is involved, thus the radiological releases in the accident analyses are not affected.

Therefore, the proposed amendment does not involve a significant increase in the probability or consequences of an accident previously evaluated.

2. Does the proposed amendment create the possibility of a new or different kind of accident from any accident previously evaluated?

Response: No.

The proposed changes would revise the COL and licensing basis documents to add Onsite Standby Diesel Generator loads identified as required for orderly plant shutdown, defense-in-depth, and prevention of automatic passive safety-related system actuation following anticipated operational occurrences, to prevent duplication of testing by deleting ITAAC 2.6.01.04c for the function of Onsite Standby Diesel Generator breaker closing and combining with ITAAC 2.6.04.02a, and to provide editorial updates.

The proposed change to COL Appendix C does not affect the design or function of any SSC but consolidates ITAAC to improve efficiency of the ITAAC completion and closure process. The proposed changes would not introduce a new failure mode, fault or sequence of events that could result in a radioactive material release.

Therefore, the proposed amendment does not create the possibility of a new or different kind of accident from any accident previously evaluated.

3. Does the proposed amendment involve a significant reduction in a margin of safety?

Response: No.

The proposed changes would revise the COL and licensing basis documents to add Onsite Standby Diesel Generator loads identified as required for orderly plant shutdown, defense-in-depth, and prevention of automatic passive safety-related system actuation following anticipated operational occurrences, to prevent duplication of testing by deleting ITAAC 2.6.01.04c for the function of Onsite Standby Diesel Generator breaker closing and combining with ITAAC 2.6.04.02a, and to provide editorial updates.

The proposed change to COL Appendix C to consolidate ITAAC to improve efficiency of the ITAAC completion and closure process is considered non-technical and would not affect any design parameter, function or analysis.

There would be no change to an existing design basis, design function, regulatory criterion, or analysis. No safety analysis or design basis acceptance limit/criterion is involved.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer L. Dixon-Herrity.

IV. Previously Published Notice of Consideration of Issuance of Amendments to Facility Operating Licenses and Combined Licenses, Proposed No Significant Hazards Consideration Determination, and Opportunity for a Hearing

The following notice was previously published as a separate individual notice. The notice content was the same as above. It was published as an individual notice either because time did not allow the Commission to wait for this biweekly notice or because the action involved exigent circumstances. It is repeated here because the biweekly notice lists all amendments issued or proposed to be issued involving no significant hazards consideration.

For details, see the individual notice in the Federal Register on the day and page cited. This notice does not extend the notice period of the original notice.

Entergy Operations, Inc., Docket Nos. 50-313 and 50-368, Arkansas Nuclear One (ANO), Units 1 and 2, Pope County, Arkansas

Date of amendment request: September 5, 2019. A publicly-available version is in ADAMS under Accession No. ML19248C601.

Brief description of amendment request: The proposed amendments would extend the implementation dates for License Amendment Nos. 263 and 314 for ANO, Units 1 and 2, respectively, from October 30, 2019, to January 14, 2020. These amendments, which were issued on January 17, 2019, approved an update to the ANO Emergency Plan to adopt a revised Emergency Action Level scheme.

Date of publication of individual notice in Federal Register: September 19, 2019 (84 FR 49349).

Expiration date of individual notice: October 21, 2019 (public comments); November 18, 2019 (hearing requests).

V. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Progress, LLC, Docket Nos. 50-325 and 50-324, Brunswick Steam Electric Plant, Units 1 and 2, Brunswick County, North Carolina

Date of amendment request: January 10, 2018, as supplemented by letters dated November 2, 2018, February 13, 2019, and April 8, 2019.

Brief description of amendments: The amendments revised the licensing basis by the addition of a license condition, to allow for the implementation of the provisions of 10 CFR 50.69, “Risk-Informed Categorization and Treatment of Structures, Systems, and Components for Nuclear Power Reactors.”

Date of issuance: September 17, 2019.

Effective date: As of the date of issuance and shall be implemented within 60 days of issuance.

Amendment Nos.: Unit 1—292; Unit 2—320. A publicly-available version is in ADAMS under Accession No. ML19149A471; documents related to these amendments are listed in the Safety Evaluation enclosed with the amendments.

Renewed Facility Operating License Nos. DPR-71 and DPR-62: The amendments revised the renewed facility operating licenses.

Date of initial notice in Federal Register: May 22, 2018 (83 FR 23731). The supplemental letters dated November 2, 2018, February 13, 2019, and April 8, 2019, provided additional information that clarified the application, did not expand the scope of the application as originally noticed, and did not change the staff's original proposed no significant hazards consideration determination as published in the Federal Register.

The Commission's related evaluation of the amendments is contained in a Safety Evaluation dated September 17, 2019.

No significant hazards consideration comments received: No.

Duke Energy Progress, LLC, Docket No. 50-400, Shearon Harris Nuclear Power Plant, Unit 1, Wake and Chatham Counties, North Carolina

Date of amendment request: February 1, 2018, as supplemented by letters dated October 18, 2018, and April 23, 2019.

Brief description of amendment: The amendment revised the licensing basis of Shearon Harris Nuclear Power Plant, Unit 1, by voluntarily adopting 10 CFR 50.69, “Risk-informed categorization and treatment of structures, systems and components.”

Date of issuance: September 17, 2019.

Effective date: As of the date of issuance and shall be implemented within 60 days.

Amendment No: 174. A publicly-available version is in ADAMS under Accession No. ML19192A012; documents related to this amendment are listed in the Safety Evaluation enclosed with the amendment.

Renewed Facility Operating License No. NPF-63: The amendment revised the renewed facility operating license.

Date of initial notice in Federal Register: May 22, 2018 (83 FR 23731). The supplemental letters dated October 18, 2018, and April 23, 2019, provided additional information that clarified the application, did not expand the scope of the application as originally noticed, and did not change the NRC staff's original proposed no significant hazards consideration determination as published in the Federal Register.

The Commission's related evaluation of the amendment is contained in a Safety Evaluation dated September 17, 2019.

No significant hazards consideration comments received: No.

Duke Energy Progress, LLC, Docket No. 50-400, Shearon Harris Nuclear Power Plant, Unit 1, Wake and Chatham Counties, North Carolina

Date of amendment request: July 30, 2019, as supplemented by letters dated September 24, 2018, and December 27, 2018.

Brief description of amendment: The amendment revised Technical Specification (TS) Table 2.2-1, “Reactor Trip System Instrumentation Trip Setpoints,” and TS Table 3.3-4, “Engineered Safety Features Actuation System Instrumentation Trip Setpoints,” to optimize safety analysis margin in the Final Safety Analysis Report Chapter 15 transient analyses. It also removed the high-power range high negative neutron flux rate trip from the TSs.

Date of issuance: September 19, 2019.

Effective date: As of the date of issuance and shall be implemented prior to the startup of Cycle 23.

Amendment No.: 175. A publicly-available version is in ADAMS under Accession No. ML19225C069; documents related to this amendment are listed in the Safety Evaluation enclosed with the amendment.

Renewed Facility Operating License No. NPF-63: The amendment revised the renewed facility operating license and TSs.

Date of initial notice in Federal Register: February 12, 2019 (84 FR 3508). The supplemental letters dated September 24, 2018, and December 27, 2018, provided additional information that clarified the application, did not expand the scope of the application as originally noticed, and did not change the staff's initial proposed no significant hazards consideration determination as published in the Federal Register.

The Commission's related evaluation of the amendment is contained in a Safety Evaluation dated September 19, 2019.

No significant hazards consideration comments received: No.

Entergy Operations, Inc., Docket Nos. 50-313 and 50-368, Arkansas Nuclear One (ANO), Units 1 and 2, Pope County, Arkansas

Entergy Operations, Inc.; System Energy Resources, Inc.; Cooperative Energy, A Mississippi Electric Cooperative; and Entergy Mississippi, LLC, Docket No. 50-416, Grand Gulf Nuclear Station, Unit 1 (Grand Gulf), Claiborne County, Mississippi

Entergy Nuclear Operations, Inc., Docket Nos. 50-247 and 50-286, Indian Point Nuclear Generating (Indian Point) Unit Nos. 2 and 3, Westchester County, New York

Entergy Nuclear Operations, Inc., Docket No. 50-255, Palisades Nuclear Plant (Palisades), Van Buren County, Michigan

Entergy Louisiana, LLC, and Entergy Operations, Inc., Docket No. 50-458, River Bend Station, Unit 1 (River Bend), West Feliciana Parish, Louisiana

Entergy Operations, Inc., Docket No. 50-382, Waterford Steam Electric Station, Unit 3 (Waterford 3), St. Charles Parish, Louisiana

Date of amendment request: January 31, 2019, as supplemented by letter dated May 23, 2019.

Brief description of amendments: The amendments revised the technical specifications (TSs) for each of these facilities based on Technical Specifications Task Force (TSTF) Traveler TSTF-529, Revision 4, “Clarify Use and Application Rules.” Specifically, the changes revised and clarified the TS usage rules for completion times, limiting conditions for operation, and surveillance requirements.

Date of issuance: September 11, 2019.

Effective date: As of the date of issuance and shall be implemented within 90 days of issuance.

Amendment Nos.: 265 (ANO-1); 316 (ANO-2); 221 (Grand Gulf); 291 (Indian Point 2), 266 (Indian Point 3); 270 (Palisades); 199 (River Bend); and 255 (Waterford 3). A publicly-available version is in ADAMS under Accession No. ML19175A042; documents related to these amendments are listed in the Safety Evaluation enclosed with the amendments.

Renewed Facility Operating License No. NPF-29: The amendments revised the renewed facility operating licenses and TSs.

Date of initial notice in Federal Register: April 9, 2019 (84 FR 14145). The supplemental letter dated May 23, 2019, provided additional information that clarified the application, did not expand the scope of the application as originally noticed, and did not change the NRC staff's original proposed no significant hazards consideration determination as published in the Federal Register.

The Commission's related evaluation of the amendment is contained in a Safety Evaluation dated September 11, 2019.

No significant hazards consideration comments received: No.

Exelon Generation Company, LLC, Docket Nos. 50-317 and 50-318, Calvert Cliffs Nuclear Power Plant, Unit Nos. 1 and 2, Calvert County, Maryland

Exelon Generation Company, LLC and Exelon FitzPatrick, LLC, Docket No. 50-333, James A. FitzPatrick Nuclear Power Plant, Oswego County, New York

Exelon Generation Company, LLC, Docket Nos. 50-220 and 50-410, Nine Mile Point Nuclear Station, Units 1 and 2, Oswego County, New York

Date of amendment request: August 31, 2018, as supplemented by letter dated February 22, 2019.

Brief description of amendments: The amendments revised the emergency response organization positions identified in the emergency plan for each site.

Date of issuance: September 13, 2019.

Effective date: As of the date of issuance and shall be implemented on or before December 31, 2019.

Amendment Nos.: Calvert Cliffs—331/309; FitzPatrick—328; and Nine Mile Point—238/177. A publicly-available version is in ADAMS under Accession No. ML19204A063. Documents related to these amendments are listed in the Safety Evaluation enclosed with the amendments.

Facility Operating License Nos. DPR-53, DPR-69, DPR-59, DPR-63, and NPF-69: The amendments revised the emergency plans.

Date of initial notice in Federal Register: October 9, 2018 (83 FR 50696). The supplemental letter provided additional information that clarified the application, did not expand the scope of the application as originally noticed, and did not change the NRC staff's original proposed no significant hazards consideration determination as published in the Federal Register.

The Commission's related evaluation of the amendments is contained in a Safety Evaluation dated September 13, 2019.

No significant hazards consideration comments received: No.

Oyster Creek Environmental Protection, LLC and Holtec Decommissioning International, LLC, Docket No. 50-219, Oyster Creek Nuclear Generating Station (Oyster Creek), Ocean County, New Jersey

Date of application for amendment: November 12, 2018, as supplemented by letter dated March 7, 2019.

Brief description of amendment: The amendment removed the existing Cyber Security Plan (CSP) requirements contained in License Condition 2.C.(4) of the Oyster Creek Renewed Facility Operating License and the commitment to fully implement the CSP by the Milestone 8 commitment date of August 31, 2021 (ADAMS Accession No. ML17289A222).

Date of issuance: September 18, 2019.

Effective date: As of the date the licensee notifies the NRC in writing that all spent nuclear fuel assemblies have been transferred out of the spent fuel pool and have been placed in dry storage within the independent spent fuel storage installation, and shall be implemented within 60 days of the effective date.

Amendment No.: 298. A publicly-available version is in ADAMS under Package Accession No. ML19179A202; documents related to this amendment are referenced in the Safety Evaluation enclosed with the amendment.

Renewed Facility Operating License No. DPR-16: This amendment revised the renewed facility operating license.

Date of initial notice in Federal Register: December 18, 2018 (83 FR 64892).

The Commission's related evaluation of the amendment is contained in a Safety Evaluation dated September 18, 2019.

No significant hazards consideration comments received: No.

PSEG Nuclear LLC, Docket No. 50-354, Hope Creek Generating Station, Salem County, New Jersey

Date of amendment request: April 22, 2019.

Brief description of amendment: The amendment adopted Technical Specifications Task Force (TSTF) Traveler TSTF-564, Revision 2, “Safety Limit MCPR [Minimum Critical Power Ratio],” which revises the Hope Creek Generating Station technical specification (TS) safety limit on MCPR to reduce the need for cycle-specific changes to the value, while still meeting the regulatory requirement for a safety limit.

Date of issuance: September 19, 2019.

Effective date: As of the date of issuance and shall be implemented prior to restart following Refueling Outage H1R22.

Amendment No.: 219. A publicly-available version is in ADAMS under Accession No. ML19218A305; documents related to this amendment are listed in the Safety Evaluation enclosed with the amendment.

Renewed Facility Operating License No. NPF-57: The amendment revised the renewed facility operating license and TSs.

Date of initial notice in Federal Register: May 21, 2019 (84 FR 23074).

The Commission's related evaluation of the amendment is contained in a Safety Evaluation dated September 19, 2019.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Date of amendment request: April 23, 2019.

Brief description of amendments: The amendments revised the technical specification (TS) safety limit (SL) on minimum critical power ratio (MCPR) to reduce the need for cycle-specific changes to the value, while still meeting the regulatory requirement for an SL, by adoption of Technical Specifications Task Force (TSTF) Traveler TSTF-564, “Safety Limit MCPR,” Revision 2, which is an approved change to the Improved Standard Technical Specifications, into the Hatch Nuclear Power Plant, Units 1 and 2 TS.

Date of issuance: September 20, 2019.

Effective date: As of the date of issuance and shall be implemented prior to reaching Mode 4 following Refueling Outage 1 R29 (spring 2020) or within 270 days from the date of issuance, whichever is later.

Amendment Nos.: 299—Unit 1; 244—Unit 2. A publicly-available version is in ADAMS under Accession No. ML19212A054; documents related to these amendments are listed in the Safety Evaluation enclosed with the amendments.

Renewed Facility Operating License Nos. DPR-57 and NPF-5: The amendments revised the renewed facility operating licenses and TSs.

Date of initial notice in Federal Register: July 2, 2019 (84 FR 31637).

The Commission's related evaluation of the amendment is contained in a Safety Evaluation dated September 20, 2019.

No significant hazards consideration comments received: No.

Tennessee Valley Authority, Docket Nos. 50-327 and 50-328, Sequoyah Nuclear Plant, Units 1 and 2, Hamilton County, Tennessee

Date of amendment request: March 16, 2018, as supplemented by letter dated March 21, 2019.

Brief description of amendments: The amendments added a license condition to allow for the adoption of 10 CFR 50.69, “Risk-informed categorization and treatment of structures, systems, and components for nuclear power reactors.” The provisions of 10 CFR 50.69 allow improved focus on equipment that has safety significance, resulting in improved plant safety.

Date of issuance: September 18, 2019.

Effective date: As of the date of issuance and shall be implemented within 60 days of issuance.

Amendment Nos.: 346—Unit 1; 340—Unit 2. A publicly-available version is in ADAMS under Accession No. ML19179A135; documents related to these amendments are listed in the Safety Evaluation enclosed with the amendments.

Renewed Facility Operating License Nos. DPR-77 and DPR-79: The amendments revised the renewed facility operating licenses.

Date of initial notice in Federal Register: August 28, 2018 (83 FR 43908). The supplemental letter dated March 21, 2019, provided additional information that clarified the application, did not expand the scope of the application as originally noticed, and did not change the staff's original proposed no significant hazards consideration determination as published in the Federal Register.

The Commission's related evaluation of the amendments is contained in a Safety Evaluation dated September 18, 2019.

No significant hazards consideration comments received: No.

Virginia Electric and Power Company, Docket Nos. 50-338 and 50-339, North Anna Power Station (North Anna), Units No. 1 and No. 2, Louisa County, Virginia

Date of amendment request: April 30, 2018, as supplemented by letters dated May 24 and August 8, 2019.

Brief description of amendments: The amendments revised the North Anna Unit Nos. 1 and 2 technical specifications (TSs) to add operability requirements, required actions, and surveillance requirements for the new 4160-volt emergency bus voltage unbalance protection system.

Date of issuance: September 12, 2019.

Effective date: As of the date of issuance and shall be implemented by the completion of the fall 2019 refueling outage for North Anna Unit 1 and the fall 2020 refueling outage for North Anna Unit 2.

Amendment Nos.: 282—Unit 1; 265—Unit 2. A publicly-available version is in ADAMS under Accession No. ML19238A127; documents related to these amendments are listed in the Safety Evaluation enclosed with the amendments.

Renewed Facility Operating License No. NPF-4 and NPF-7: The amendments revised the renewed facility operating licenses and TSs.

Date of initial notice in Federal Register: September 11, 2018 (83 FR 45989). The supplemental letters dated May 24, 2019, and August 8, 2019, provided additional information that clarified the application, did not expand the scope of the application as originally noticed, and did not change the staff's original proposed no significant hazards consideration determination as published in the Federal Register.

The Commission's related evaluation of the amendment is contained in a Safety Evaluation dated September 12, 2019.

No significant hazards consideration comments received: No.

Dated at Rockville, Maryland, this 27th day of September 2019.
For the Nuclear Regulatory Commission.
Jamie M. Heisserer,
Acting Deputy Director, Division of Operating Reactor Licensing, Office of Nuclear Reactor Regulation.

[FR Doc. 2019-21447 Filed 10-7-19; 8:45 am]

BILLING CODE 7590-01-P